DEPARTMENT OF TRANSPORTATION

Federal Aviation Administration

14 CFR Part 39

[Docket No. FAA-2019-0327; Product Identifier 2019-NM-021-AD; Amendment 39-19727; AD 2019-17-07]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model CL-600-2B19 (Regional Jet Series 100 & 440); CL-600-2C10 (Regional Jet Series 700, 701 & 702); CL-600-2D15 (Regional Jet Series 705); CL-600-2D24 (Regional Jet Series 900); and CL-600-2E25 (Regional Jet Series 1000) airplanes. This AD was prompted by reports of incorrect deployment of forward and aft flight attendant oxygen masks. This AD requires repacking the flight attendant and lavatory oxygen box assemblies as applicable, replacing the placards, and re-identifying the assemblies. The FAA is issuing this AD to address the unsafe condition on these products.

DATES: This AD is effective October 17, 2019.

The Director of the Federal Register approved the incorporation by reference of certain publications listed in this AD as of October 17, 2019.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St, Des Moines, WA. For information on the availability of this material at the FAA, call 206-231-3195. It is also available on the internet at http://www.regulations.gov by searching for and locating Docket No. FAA-2019-0327.

Examining the AD Docket

You may examine the AD docket on the internet at http://www.regulations.gov by searching for and locating Docket No. FAA-2019-0327; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Discussion

The FAA issued a notice of proposed rulemaking (NPRM) to amend 14 CFR part 39 by adding an AD that would apply to certain Bombardier, Inc., Model CL-600-2B19 (Regional Jet Series 100 & 440); CL-600-2C10 (Regional Jet Series 700, 701 & 702); CL-600-2D15 (Regional Jet Series 705); CL-600-2D24 (Regional Jet Series 900); and CL-600-2E25 (Regional Jet Series 1000) airplanes. The NPRM published in the Federal Register on June 11, 2019 (84 FR 27042). The NPRM was prompted by reports of incorrect deployment of forward and aft flight attendant oxygen masks. The NPRM proposed to require repacking the flight attendant and lavatory oxygen box assemblies as applicable, replacing the placards, and re-identifying the assemblies.

The FAA is issuing this AD to address incorrect packing of the flight attendant and lavatory oxygen box assemblies, which could result in incorrectly deployed oxygen masks, and cause occupant distress and delayed access to oxygen supply during a high altitude emergency.

Transport Canada Civil Aviation (TCCA), which is the aviation authority for Canada, has issued Canadian AD CF-2018-03, dated January 19, 2018 (referred to after this as the Mandatory Continuing Airworthiness Information, or “the MCAI”), to correct an unsafe condition for certain Model CL-600-2B19 (Regional Jet Series 100 & 440); CL-600-2C10 (Regional Jet Series 700, 701 & 702); CL-600-2D15 (Regional Jet Series 705); CL-600-2D24 (Regional Jet Series 900); and CL-600-2E25 (Regional Jet Series 1000) airplanes. The MCAI states:

After an in-service cabin oxygen masks deployment on a CL-600-2D24 aeroplane, the crew noted that the forward and aft flight attendant oxygen masks did not deploy correctly. The oxygen hoses were tangled with the pull lanyard and cordage from the oxygen box assemblies. Investigation found the same condition on other aeroplanes. The similarly designed lavatory oxygen box assembly is also affected. It was determined that packing instructions for these oxygen box assemblies were incorrect. If not corrected, inappropriately packed oxygen box assemblies resulting in incorrectly deployed oxygen masks can cause occupant distress and delayed access to oxygen supply during a high altitude emergency.

This [Canadian] AD mandates the repacking of the forward flight attendant, aft flight attendant, and lavatory oxygen box assemblies [as applicable] and the installation of a revised packaging placard.

You may examine the MCAI in the AD docket on the internet at http://www.regulations.gov by searching for and locating Docket No. FAA-2019-0327.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Bombardier has issued the following service information:

• Service Bulletin 601R-35-021, dated October 30, 2017, which describes procedures for repacking the lavatory oxygen box assembly, replacing the placards, and re-identifying the assembly.

• Service Bulletin 670BA-35-015, dated October 30, 2017, which describes procedures for repacking the flight attendant and lavatory oxygen box assemblies, replacing the placards, and re-identifying the assemblies.

These documents are distinct since they apply to different airplane models. This service information is reasonably available because the interested parties have access to it through their normal course of business or by the means identified in the ADDRESSES section.

Costs of Compliance

The FAA estimates that this AD affects 539 airplanes of U.S. registry. The FAA estimates the following costs to comply with this AD:

Estimated Costs for Required Actions
Labor cost | Parts cost | Cost per product | Cost on U.S. operators
5 work-hours × $85 per hour = $425 | $100 | $525 | $282,975

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-17-07 Bombardier, Inc.: Amendment 39-19727; Docket No. FAA-2019-0327; Product Identifier 2019-NM-021-AD.

(a) Effective Date

This AD is effective October 17, 2019.

(b) Affected ADs

None.

(c) Applicability

This AD applies to Bombardier, Inc., airplanes, certificated in any category, identified in paragraphs (c)(1) through (c)(4) of this AD.

(1) Model CL-600-2B19 (Regional Jet Series 100 & 440) airplanes, serial numbers (S/N) 7003 and subsequent.

(2) Model CL-600-2C10 (Regional Jet Series 700, 701 & 702) airplanes, S/N 10003 and subsequent.

(3) Model CL-600-2D15 (Regional Jet Series 705) airplanes and Model CL-600-2D24 (Regional Jet Series 900) airplanes, S/N 15001 and subsequent.

(4) Model CL-600-2E25 (Regional Jet Series 1000) airplanes, S/N 19001 and subsequent.

(d) Subject

Air Transport Association (ATA) of America Code 35, Oxygen.

(e) Reason

This AD was prompted by reports of incorrect deployment of the forward and aft flight attendant oxygen masks. The FAA is issuing this AD to address incorrect packing of the flight attendant and lavatory oxygen box assemblies, which could result in incorrectly deployed oxygen masks, and cause occupant distress and delayed access to oxygen supply during a high altitude emergency.

(f) Compliance

Comply with this AD within the compliance times specified, unless already done.

(g) Repacking and Modification of Oxygen Box Assemblies

(1) For Model CL-600-2B19 airplanes equipped with oxygen box assembly part number (P/N) 3868301 or 3868302 with C&D Zodiac Aerospace Service Bulletin 3868303-25-A-01 installed, or P/N 3868303: Within 8,800 flight hours or 48 months, whichever is first, after the effective date of this AD, repack the assembly, replace the packaging placard, and re-identify the assembly, in accordance with paragraphs 2.A. and 2.B. of the Accomplishment Instructions of Bombardier Service Bulletin 601R-35-021, dated October 30, 2017.

(2) For airplane Model CL-600-2C10, S/N 10003 through 10346 inclusive; Models CL-600-2D15 and CL-600-2D24, S/N 15001 through 15436 inclusive; and Model CL-600-2E25, S/N 19001 through 19055 inclusive; equipped with oxygen box assembly P/N 9324601[ ]505/507/509/511, 9324614[ ]505/509, D114601[ ]501/503/505/507/509, D114602[ ]503/507/511, or D114603[ ]501 (where “[ ]” indicates the décor finish code letters): Within 8,800 flight hours or 48 months, whichever is first, after the effective date of this AD, repack the assembly, replace the packaging placard, and re-identify the assembly in accordance with paragraphs 2.A. and 2.B. of the Accomplishment Instructions of Bombardier Service Bulletin 670BA-35-015, dated October 30, 2017.

(h) Operational Limitation

For Model CL-600-2C10, CL-600-2D15, CL-600-2D24, and CL-600-2E25 airplanes: After accomplishment of the actions required by paragraph (g)(2) of this AD, if applicable, or within 30 days after the effective date of this AD, whichever is later, no person may operate any airplane with oxygen box assemblies packed using Bombardier Aircraft Maintenance Manual (AMM) task 35-21-13-860-802, “Repack and Stowage of the Flight Attendant Oxygen Mask,” or 35-21-17-860-802, “Repack of the Passenger Mask in the Lavatory.”

Note 1 to paragraph (h): The AMM tasks identified in paragraph (h) of this AD have been superseded by AMM tasks 35-21-13-860-804, “Repack and Stowage of the Forward and Aft Flight Attendant Oxygen-Mask,” 35-21-13-860-806, “Repack and Stowage of the Third Flight Attendant Oxygen-Mask,” and 35-21-17-860-803, “Repack of the Passenger Mask in the Lavatory.”

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian AD CF-2018-03, dated January 19, 2018, for related information. This MCAI may be found in the AD docket on the internet at http://www.regulations.gov by searching for and locating Docket No. FAA-2019-0327.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 601R-35-021, dated October 30, 2017.

(ii) Bombardier Service Bulletin 670BA-35-015, dated October 30, 2017.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on August 22, 2019.
Michael Kaszycki,
Acting Director, System Oversight Division, Aircraft Certification Service.

[FR Doc. 2019-19679 Filed 9-11-19; 8:45 am]

BILLING CODE 4910-13-P